DEPARTMENT OF ENERGY

Federal Energy Regulatory Commission

[Project No. 14861-002]

FFP Project 101, LLC; Notice of Availability of the Final Environmental Impact Statement for the Goldendale Energy Storage Project

In accordance with the National Environmental Policy Act of 1969,¹ the Council Environmental Quality regulations for implementing NEPA,² and the Federal Energy Regulatory Commission's (Commission) regulations,³ the Commission's Office of Energy Projects has reviewed the application for license for the Goldendale Energy Storage Project No. 14861-002 and has prepared a final environmental impact statement (EIS) for the project. The closed-loop pumped storage project would be located approximately 8 miles southeast of the City of Goldendale, Klickitat County, Washington, with transmission facilities extending into Sherman County, Oregon. The project would occupy 18.1 acres of lands owned by the U.S. Army Corps of Engineers (Corps) and administered by the Bonneville Power Administration. The Corps participated as a cooperating agency to prepare the EIS.

¹ National Environmental Policy Act of 1969, amended (Pub. L. 91-190. 42 U.S.C. 4321 through 4347, as amended by Pub. L. 94-52, July 3, 1975, Pub. L. 94-83, August 9, 1975, Pub. L. 97-258, sec. 4(b), September 13, 1982, Pub. L. 118-5, June 3, 2023).

² 40 CFR parts 1500-1508.

³ 18 CFR part 380.

The final EIS contains staff's analysis of the applicant's proposal and the alternatives for licensing the Goldendale Energy Storage Project. The final EIS documents the views of governmental agencies, non-governmental organizations, affected Native-American Tribes, the public, the license applicant, and Commission staff.

The final EIS also may be viewed on the Commission's website at http://www.ferc.gov under the eLibrary link. Enter the docket number excluding the last three digits in the docket number field to access the document. For assistance, contact FERC Online Support at FERCOnlineSupport@ferc.gov, (866) 208-3676 (toll free), or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

For further information, please contact Michael Tust at (202) 502-6522 or at michael.tust@ferc.gov.

Dated: February 8, 2024.
Debbie-Anne A. Reese,
Acting Secretary.

[FR Doc. 2024-03052 Filed 2-13-24; 8:45 am]

BILLING CODE 6717-01-P